DEPARTMENT OF JUSTICE

Foreign Claims Settlement Commission

Privacy Act of 1974; System of Records

AGENCY: Foreign Claims Settlement Commission of the United States, Department of Justice.

ACTION: Notice of a new system of records.

SUMMARY: Pursuant to the Privacy Act of 1974, the Foreign Claims Settlement Commission of the United States (Commission), Department of Justice, proposes to establish a new system of records to enable the Commission to carry out its statutory responsibility to receive, examine, adjudicate and render final decisions with respect to claims for compensation of individuals. The system will include documentation provided by the claimants as well as background material that will assist the Commission in the processing of their claims. The system will also include the final decision of the Commission regarding each claim.

DATES: In accordance with 5 U.S.C. 552a(e)(4) and (11), this system of records notice is effective upon publication, with the exception of the routine uses that are subject to a 30-day period in which to comment, described below. Therefore, please submit any comments by November 18, 2019.

ADDRESSES: The public is invited to submit any comments via email at info.fcsc@usdoj.gov or by mail to the Foreign Claims Settlement Commission, 441 G Street NW, Room 6330, Washington, DC 20579.

FOR FURTHER INFORMATION CONTACT: Jeremy LaFrancois, Chief Administrative Counsel, Foreign Claims Settlement Commission, U.S. Department of Justice, 441 G Street NW, Room 6330, Washington, DC 20579, or by telephone at (202) 616-6975.

SUPPLEMENTARY INFORMATION: The Foreign Claims Settlement Commission of the United States (Commission) is authorized, pursuant to 22 U.S.C. 1621 et. seq., 50 U.S.C. 1701 note and 50 U.S.C. App. 2004 and 2005, to adjudicate claims to determine the eligibility of individuals for and the appropriate amount of compensation.

The system of records covered by this notice is necessary for the Commission's adjudication of claims pursuant to its authority under the aforementioned statutes. These records shall form the basis upon which the Commission will determine an individual's eligibility for and amount of compensation.

In accordance with 5 U.S.C. 552a(r), the Commission has provided a report to OMB and the Congress on the new system of records.

Dated: October 10, 2019.
Jeremy R. LaFrancois,
Chief Administrative Counsel.

SYSTEM NAME AND NUMBER:

Claims Received and Adjudicated by the Foreign Claims Settlement Commission JUSTICE/FCSC-33.

SECURITY CLASSIFICATION:

Unclassified.

SYSTEM LOCATION:

Offices of the Foreign Claims Settlement Commission, 441 G Street NW Room 6330, Washington, DC 20579 and Washington National Records Center, 4205 Suitland Road, Washington, DC 20409.

SYSTEM MANAGER(S):

Chief Administrative Counsel, Foreign Claims Settlement Commission, 441 G Street NW Room 6330, Washington, DC 20579. Telephone: (202) 616-6975. Fax: (202) 616-6993. Email Jeremy.r.lafrancois@usdoj.gov.

AUTHORITY FOR MAINTENANCE OF THE SYSTEM:

Authority to establish and maintain this system is contained in 5 U.S.C. 301 and 44 U.S.C. 3101, which authorize the Chairman of the Commission to create and maintain federal records of agency activities, and is further described in 22 U.S.C. 1622e, which vests all non-adjudicatory functions, powers and duties in the Chairman of the Commission.

PURPOSE(S) OF THE SYSTEM:

This system shall consolidate the following Systems of Records: FCSC-1 Indexes of Claimants (Alphabetical); FCSC-3 Certifications of Awards; FCSC-4 China, Claims Against; FCSC-5 Civilian Internees (Vietnam); FCSC-8 Cuba, Claims Against; FCSC-17 Prisoners of War (Vietnam); FCSC-19 Soviet Union, Claims Against; FCSC-25 Egypt, Claims Against; FCSC-26 Albania, Claims Against; FCSC-27 Germany, Holocaust Survivors' Claims Against; FCSC-28 Iraq, Registration of Potential Claims Against; FCSC-29 Libya, Claims Against; FCSC-29 Claims of less than $250,000 Against Iran; FCSC-30 Iraq, Claims Against; FCSC-31 Claims Referred by the Department of State; FCSC-32 Claims Arising under the Guam World War II Loyalty Recognition Act. This system will enable the Commission to carry out its statutory responsibility to determine the validity and amount of claims authorized to be adjudicated pursuant to pursuant to 22 U.S.C. 1621 et. seq., 50 U.S.C. 1701 note and 50 U.S.C. App. 2004 and 2005.

CATEGORIES OF INDIVIDUALS COVERED BY THE SYSTEM:

Individuals who file claims pursuant to a duly authorized Commission claims program.

CATEGORIES OF RECORDS IN THE SYSTEM:

Claim information, including name and address of claimant and representative, if any; date and place of birth or naturalization; nature of claim; description of loss or injury including medical records; and other evidence establishing entitlement to compensation.

RECORD SOURCE CATEGORIES:

The primary document source is the claimant upon whom the record is maintained. The collection may also include documents obtained from legal databases (e.g., Westlaw and/or Lexis), Congressional records, and the records of other Federal agencies (e.g., the Social Security Agency, Department of State, etc.)

ROUTINE USES OF RECORDS MAINTAINED IN THE SYSTEM, INCLUDING CATEGORIES OF USERS AND PURPOSES OF SUCH USES:

In addition to those disclosures generally permitted under 5 U.S.C. 552a(b), all or a portion of the records contained in this system of records may be disclosed as a routine use pursuant to 5 U.S.C. 552a(b)(3) under the circumstances or for the purposes described below, to the extent such disclosures are compatible with the purposes for which the information was collected.

a. Upon the issuance of a final decision awarding compensation, the Commission will certify its decision and other necessary personal information to the Department of the Treasury in order to process payment of the claim.

b. To contractors, grantees, experts, consultants, students, and others performing or working on a contract, service, grant, cooperative agreement, or other assignment for the federal government, when necessary to accomplish a Commission function related to this system of records;

c. To a Member of Congress or staff acting upon the Member's behalf when the Member or staff requests the information on behalf of, and at the request of, the individual who is the subject of the record;

d. Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law;

e. In an appropriate proceeding before the Commission, or before a court, grand jury, or administrative or adjudicative body, when the Department of Justice and/or the Commission determines that the records are arguably relevant to the proceeding; or in an appropriate proceeding before an administrative or adjudicative body when the adjudicator determines the records to be relevant to the proceeding;

f. To a former employee of the Commission for purposes of: Responding to an official inquiry by a federal, state, or local government entity or professional licensing authority, in accordance with applicable Commission regulations; or facilitating communications with a former employee that may be necessary for personnel-related or other official purposes where the Commission requires information and/or consultation from the former employee regarding a matter within that person's former area of responsibility;

g. To the National Archives and Records Administration for purposes of records management inspections conducted under the authority of 44 U.S.C. 2904 and 2906;

h. To appropriate agencies, entities, and persons when (1) the Commission suspects or has confirmed that there has been a breach of the system of records; (2) the Commission has determined that as a result of the suspected or confirmed breach there is a risk of harm to the individuals, the Commission (including its information systems, programs, and operations), the Federal Government, or national security; and (3) the disclosure made to such agencies, entities, and persons is reasonably necessary to assist in connection with the Commission's efforts to respond to the suspected or confirmed breach or to prevent, minimize, or remedy such harm;

i. To another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

j. To such recipients and under such circumstances and procedures as are mandated by federal statute or treaty.

POLICIES AND PRACTICES FOR STORAGE OF RECORDS:

Paper records maintained in file folders at the Commission's office and the National Records Center. Electronic records are located on the Department of Justice Servers.

POLICIES AND PRACTICES FOR RETRIEVAL OF RECORDS:

Records maintained in this system of records will be retrieved by claim number and/or decision number. An alphabetical index may be used by the Commission for identification of a claim by claimants' name.

POLICIES AND PRACTICES FOR RETENTION AND DISPOSAL OF RECORDS:

Records are maintained under 5 U.S.C. 301. The Commission maintains record schedules with the National Archives and Records Administration for each authorized claims program.

ADMINISTRATIVE, TECHNICAL, AND PHYSICAL SAFEGUARDS:

Paper records are under security safeguards at both the Commission's office and the National Records Center. Such safeguards include storage in a central location within a limited access building and a further limited access suite. Accordingly, access is limited to Commission and Record Center employees and contractors with appropriate security clearances. The electronic records are safeguarded by the DOJ JCON security procedures. Access to the Commission's data requires a password and is limited to Commission employees and contractors with appropriate security clearances.

RECORD ACCESS PROCEDURES:

The Commission's record access procedures are set forth in 45 CFR 503.5. That section provides that (a) Any individual requesting access to a record or information on himself or herself in person must appear at the offices of the Foreign Claims Settlement Commission, 441 G Street NW Room 6330, Washington, DC, between the hours of 9 a.m. and 5:00 p.m., Monday through Friday, and (1) Provide information sufficient to identify the record, e.g., the individual's own name, claim and decision number, date and place of birth, etc.; (2) Provide identification sufficient to verify the individual's identity, e.g., driver's license, Medicare card, or other government issued identification; and (3) Any individual requesting access to records or information pertaining to himself or herself may be accompanied by a person of the individual's own choosing while reviewing the records or information. If an individual elects to be so accompanied, advance notification of the election will be required along with a written statement authorizing disclosure and discussion of the record in the presence of the accompanying person at any time, including the time access is granted. (b) Any individual making a request for access to records or information pertaining to himself or herself by mail must address the request to the Privacy Officer, Foreign Claims Settlement Commission, 441 G Street NW Room 6330, Washington, DC 20579, and must provide information acceptable to the Commission to verify the individual's identity. (c) Responses to requests under this section normally will be made within ten (10) days of receipt (excluding Saturdays, Sundays, and legal holidays). If it is not possible to respond to requests within that period, an acknowledgment will be sent to the individual within ten (10) days of receipt of the request (excluding Saturdays, Sundays, and legal holidays).

CONTESTING RECORD PROCEDURES:

(a) Any individual may request amendment of a record pertaining to himself or herself according to the procedure in paragraph (b) of this section, except in the case of records described under paragraph (d) of this section. (b) After inspection by an individual of a record pertaining to himself or herself, the individual may file a written request, presented in person or by mail, with the Administrative Officer, for an amendment to a record. The request must specify the particular portions of the record to be amended, the desired amendments and the reasons therefor. (c) Not later than ten (10) days (excluding Saturdays, Sundays, and legal holidays) after the receipt of a request made in accordance with this section to amend a record in whole or in part, the Administrative Officer will: (1) Make any correction of any portion of the record which the individual believes is not accurate, relevant, timely or complete and thereafter inform the individual of such correction; or (2) Inform the individual, by certified mail return receipt requested, of the refusal to amend the record, setting forth the reasons therefor, and notify the individual of the right to appeal that determination as provided under 45 CFR 503.8. (d) The provisions for amending records do not apply to evidence presented in the course of Commission proceedings in the adjudication of claims, nor do they permit collateral attack upon what has already been subject to final agency action in the adjudication of claims in programs previously completed by the Commission pursuant to statutory time limitations.

NOTIFICATION PROCEDURES:

The Commission's notification procedures are set forth in 45 CFR 503.5. That section provides that (a) Any individual requesting access to a record or information on himself or herself in person must appear at the offices of the Foreign Claims Settlement Commission, 441 G Street NW Room 6330, Washington, DC, between the hours of 9 a.m. and 5:00 p.m., Monday through Friday, and (1) Provide information sufficient to identify the record, e.g., the individual's own name, claim and decision number, date and place of birth, etc.; (2) Provide identification sufficient to verify the individual's identity, e.g., driver's license, Medicare card, or other government issued identification; and (3) Any individual requesting access to records or information pertaining to himself or herself may be accompanied by a person of the individual's own choosing while reviewing the records or information. If an individual elects to be so accompanied, advance notification of the election will be required along with a written statement authorizing disclosure and discussion of the record in the presence of the accompanying person at any time, including the time access is granted. (b) Any individual making a request for access to records or information pertaining to himself or herself by mail must address the request to the Privacy Officer, Foreign Claims Settlement Commission, 441 G Street NW Room 6330, Washington, DC 20579, and must provide information acceptable to the Commission to verify the individual's identity. (c) Responses to requests under this section normally will be made within ten (10) days of receipt (excluding Saturdays, Sundays, and legal holidays). If it is not possible to respond to requests within that period, an acknowledgment will be sent to the individual within ten (10) days of receipt of the request (excluding Saturdays, Sundays, and legal holidays).

EXEMPTIONS CLAIMED FOR THE SYSTEM:

None.

HISTORY:

None.

[FR Doc. 2019-22496 Filed 10-16-19; 8:45 am]

BILLING CODE 4410-BA-P